DEPARTMENT OF HEALTH AND HUMAN SERVICES

Health Resources and Services Administration

Statement of Organization, Functions and Delegations of Authority

This notice amends Part R of the Statement of Organization Functions and Delegations of Authority of the Department of Health and Human Services (DHHS), Health Resources and Services Administration (HRSA) (60 FR 56605, as amended November 6, 1995 as last amended at 66 FR 41249-51, dated August 7, 2001).

This notice sets forth several major organizational changes in the Bureau of Health Professions (BHPr). Certain other organizational changes in various organizations within Health Resources and Services Administration are reflected in the notice.

In addition to the changes in BHPr this notice will move communications functions throughout the agency into the Office of Communications, Office of the Administrator. Legislative functions throughout the agency will be consolidated into the Office of Legislation, Office of the Administrator. The Center for Quality and the Office for the Advancement of Telehealth will be moved from the Office of the Administrator and placed in the HIV/AIDS Bureau, and the Center for Health Services Financing and Managed Care will be placed in the Office of Planning and Evaluation. In addition, the Office of International Health Affairs will be moved from the Office of the Administrator and placed within the Office of Management and Program Support.

Section RA-00, Mission

The Health Resources and Services Administration (HRSA) directs national health programs which improve the health of the Nation by assuring quality health care to underserved, vulnerable and special-need populations and by promoting appropriate health professions workforce capacity and practice, particularly in primary care and public health.

Section RA-10 Organization

The Office of the Administrator is headed by the Administrator, Health Resources and Services Administration (OA) who reports directly to the Secretary. The OA includes the following components:

(1) Immediate Office of the Administrator (RA);

(2) Office of Equal Opportunity and Civil Rights (RA2);

(3) Office of Planning and Evaluation (RA5);

(4) Office of Communications (RA6);

(5) Office of Minority Health (RA9); and

(6) Office of Legislation (RAE)

Section RA-20 Function

1. Revise the functional statement for the Immediate Office of the Administrator. Immediate Office of the Administrator (RA)

(1) Leads and directs programs and activities of the Agency and advises the Office of the Secretary of Health and Human Services on policy matters concerning them; (2) provides consultation and assistance to senior Agency officials and others on clinical and health professional issues; (3) serves as the Agency's focal point on efforts to strengthen the practice of public health as it pertains to the HRSA mission; (4) establishes and maintains verbal and written communications with health organizations in the public and private sectors to support the mission of HRSA; and (5) manages the legislative and communications programs for the agency.

2. In the Office of the Administrator, establish the Office of Legislation (RAE) as follows:

Office of Legislation (RAD)

(1) Serves as the Administrator's primary staff unit and principal source of advice on legislative affairs; (2) oversees communications between the Administrator and higher levels of the Department on legislative matters; (3) oversees the legislative program for the Administrator; (4) develops a legislative program for the Agency and develops legislative proposals; (5) prepares the Administrator's analyses, position papers, and reports on proposed legislation; (6) coordinates the preparation of testimony and backup materials on the Administration's legislative program for presentation to Congressional Committees; (7) monitors hearings and Congressional activities affecting the Administration; (8) in conjunction with the Office of the Assistant Secretary for Legislation (L), coordinates the preparation of information requested by, and provides technical assistance to, Congressional Committees, Members of Congress, or their staff in relation to the Agency's legislative programs; and (9) coordinates the distribution of legislative materials and serves as a legislative reference center.

3. Rename the Office of Planning, Evaluation and Legislation (RA5) as the Office of Planning and Evaluation (RA5)

4. In the Office of Planning, Evaluation and Legislation (RA5), abolish the Division of Data Policy (RA54) and place the function in the Office of Information Technology, Office of Management and Program Support.

5. Abolish the Center for Health Services Financing and Managed Care (RAC) and transfer the functions to the Office of Planning and Evaluation (RA5).

6. In the Office of Planning and Evaluation (RA5) establish the Center for Health Services Financing and Managed Care (RA55) as follows:

Center for Health Services Financing and Managed Care (RA55)

The Center for Health Services Financing and Managed Care serves as the focal point within the Health Resources and Services Administration (HRSA) for leadership, coordination, and advancement of managed care systems for safety net providers serving at risk, vulnerable populations and for training programs for health professionals. The Center for Health Services Financing and Managed Care carries out the following functions. Specifically: (1) Provides leadership within HRSA for the development of managed care policies and programs and in coordinating policy development with other Departmental agencies; (2) provides technical and other support to HRSA components and other mission related agencies as they establish managed care initiatives; (3) provides technical assessment and training to HRSA grantees and related safety net providers and health professions training institutions in all aspects of managed care including dissemination of best practices; (4) develops working relationships with the private managed care industry to assure mutual areas of cooperation, maximization of expertise and coordination; (5) assesses new and existing managed care systems and advises the HRSA Administrator on strategies to maximize the application of these systems to HRSA's programs; and (6) works with Foundations, private agencies and other Federal, State, and local agencies to assure effective development of policies, resources, program development, and resolution of program barriers and issues.

7. Delete the functional statement for the Office of Communications and replace as follows:

Office of Communications (RA6)

(1) Provides leadership and general policy and program direction for and conducts and coordinates communications and public affairs activities of the Agency; (2) serves as focal point for coordination of Agency communications activities with those of other health agencies within the Department of Health and Human Services and with field, State, local, voluntary and professional organizations; (3) develops and implements national communications initiatives to inform and educate the public, health care professionals, policy makers and the media; (4) coordinates, researches, writes and prepares speeches and audiovisual presentations for the HRSA Administrator and staff; (5) provides communication and public affairs expertise and staff advice and support to the Administrator in program and policy formulations and execution consistent with policy direction established by the Assistant Secretary for Public Affairs; (6) develops and implements policies and procedures related to external media relations and internal employee communications including those for the development, review, processing, quality control, and dissemination of Agency communications materials, including exhibits and those disseminated electronically; (7) serves as Communications and Public Affairs Officer for the Agency including establishment and maintenance of productive relationships with the news media; and (8) serves as focal point for intergovernmental affairs for the Agency (9) coordinates the implementation of the Freedom of Information Act for the Agency.

8. In the Bureau of Primary Health Care, abolish the Information Dissemination and Communications Staff (RC-5) and place the function in the Office of the Administrator Office of Communication.

9. In the Bureau of Primary Health Care, delete the functional statement in the Office of Program and Policy Development (RC1) and replace as follows:

Office of Program and Policy Development (RC1)

(1) Serves as the Bureau's principal staff arm for program planning, coordination, and analysis, including the development of alternative program and policy positions; (2) oversees planning and tracking functions in support of policy formulation and program implementation; (3) advises the Associate Administrator and his/her immediate staff on program policy and operational implications arising from activities of the Bureau; (4) collaborates in the development and implementation of annual and 5-year program and financial plans for the Bureau's program planning and budgeting systems; (5) conducts special inquiries and studies and provides liaison and coordination with the Office of the Administrator, Health Resources and Services Administration in the evaluation program for the Bureau; (6) manages the Bureau's correspondence activities; (7) coordinates the development of and accomplishes the formal clearance of policy for the Bureau; (8) maintains liaison with the Office of the General Counsel and the Office of the Inspector General, DHHS; (9) develops and/or provides technical assistance in the development and implementation of new and revised regulations and standards; (10) prepares and/or provides guidance and assistance in the development of associated Federal Register notices; and (11) provides the focus for the Bureau's program of health center managed care training and technical assistance and other health center related financing and reimbursement issues; and provides coordination and liaison with the Centers for Medicare and Medicaid Services.

10. In the Maternal and Child Health Bureau, delete the Office of Communications (RM8) and place the function in the Office of the Administrator Office Of Communication.

11. Revise the functional statement for the Maternal and Child Health Bureau (RM) as follows:

Maternal and Child Health Bureau (RM)

Provides national leadership and policy direction for the planning, development, implementation and evaluation of the programs and activities of the Bureau. These programs are designed to improve the health of women of childbearing age, infants, children, adolescents, and their families, of children with special health needs, and of persons with hemophilia. Specifically: (1) Oversees the day-to-day management and operations of the Bureau's Offices, and Divisions; (2) coordinates all internal functions of the Bureau and facilitates effective, collaborative relationships with other health and related programs; (3) establishes a program mission, goals, objectives and policy with broad Administration guidelines; (4) serves as the focal point for managing the Bureau-wide strategic planning operation as it relates to long and short range programmatic goals and objectives for the Bureau; (5) works with other Bureaus to further the Agency goals and mission; (6) develops and administers internal operating policies and procedures and provides guidance and direction to Field Office staff, to State Health Officers, and to State Maternal and Child Health and Special Health Needs Directors; (7) serves as principal contact point to the Agency, the Department, Office of Management and Budget (OMB), and the White House on matters concerning the health status of America's mothers and children; (8) directs and coordinates the Bureau's program responsibilities, including the Maternal and Child Health block grants to States, contracts, and other funding arrangements in the areas of research, training, genetics, hemophilia, and health service improvement through regionally and nationally significant projects, a national program to improve emergency medical services for children, a Healthy Start program designed to strengthen and improve the delivery of health services to improve the outcome of pregnancy, a national program on traumatic brain injury and on injury prevention for children and adolescents, and a national abstinence education program; (9) directs and coordinates the planning, implementation and monitoring of a national maternal and child health data and information system based in State and local jurisdictions; (10) provides direction and serves as the focal point for international matters of concern to the health of mothers, children, and their families; (11) develops a policy statement and an action plan to address the health needs of mothers and children from culturally diverse groups; (12) directs and coordinates Bureau activities in support of Equal Opportunity programs; (13) provides direction for the Bureau's Civil Rights compliance activities; (14) provides information and reports on the Bureau's programs to public, health, education and related professional associations, the Congress, other Federal agencies, OMB, and the White House; (15) administers the implementation of the Privacy Act and the Freedom of Information Act in the Bureau; and (16) performs the executive secretariat functions and coordinates responses to General Accounting Office (GAO) audit reports and monitors the implementation of GAO recommendations.

12. In the Office of the Administrator, abolish the Office for the Advancement of Telehealth and place the function within the HIV/AIDS Bureau.

13. In the HIV/AIDS Bureau, delete the Office of Communications (RV1) and place the function in the Office of the Administrator Office of Communication.

14. Revise the functional statement for the HIV/AIDS Bureau (RV) as follows:

HIV/AIDS Bureau (RV)

Provides leadership and direction for the HIV/AIDS programs and activities of the Bureau and oversees its relationship with other national health programs. Specifically: (1) Coordinates the formulation of an overall strategy and policy for HRSA AIDS programs; (2) coordinates the internal functions of the Bureau and its relationships with other national health programs; (3) establishes AIDS program objectives, alternatives, and policy positions consistent with broad Administration guidelines; (4) administers the Agency's AIDS grants and contracts programs; (5) reviews AIDS related program activities to determine their consistency with established policies; (6) represents the Agency and the Department at AIDS related meetings, conferences and task forces; (7) serves as principal contact and advisor to the Department and other parties concerned with matters relating to planning and development of health delivery systems relating to HIV/AIDS; (8) develops and administers operating policies and procedures for the Bureau; (9) directs and coordinates the Bureau activities in support of the Department/Bureau's Affirmative Action and Equal Employment Opportunity programs by ensuring that all internal employment practices provide an equal opportunity to all qualified persons and its employment practices do not discriminate on the basis of race, color, sex, age, national origin, religious affiliation, marital status, and that all external benefits and service oriented activities relative to the recipients of federal funds are likewise addressed in accordance with applicable laws, Executive Orders, DHHS regulations and policies; (10) provides direction to the Bureau's Civil Rights compliance activities; (11) directs and coordinates Bureau Executive Secretariat activities; (12) serves in developing and coordinating (telehealth) programs and in facilitating the electronic dissemination of best practices in health care to health care professional; and (13) directs the Center for Quality.

15. In the Bureau of Health Professions (RP), delete the functional statement in its entirety and replace as follows:

Bureau of Health Professions (RP)

Provides national leadership in coordinating, evaluating, and supporting the development and utilization of the Nation's health personnel. Specifically: (1) Assesses the Nation's health personnel supply and requirements and forecasts supply and requirements for future time periods under a variety of health resources utilization assumptions; (2) collects and analyzes data and disseminates information on the characteristics and capacities of the Nation's health personnel production systems; (3) proposes new or modifications to existing Departmental policies, and programs related to health personnel development and utilization; (4) develops, tests and demonstrates new and improved approaches to the development and utilization of health personnel within various patterns of health care delivery and financing systems; (5) provides financial support to institutions and individuals for health professions education programs; (6) administers Federal programs for targeted health personnel development and utilization; (7) provides leadership for promoting equity and diversity in access to health services and health careers for under-represented minority groups; (8) provides technical assistance, consultation, and special financial assistance to national, State, and local agencies, organizations, and institutions for the development, production, utilization, and evaluation of health personnel; (9) provides linkage between Bureau headquarters and HRSA Field Office activities related to health professions education and utilization by providing training, technical assistance, and consultation to Field Office staff; (10) coordinates with the programs of other agencies within the Department, and in other Federal Departments and agencies concerned with health personnel development and health care services; (11) provides liaison and coordinates with non-Federal organizations and agencies concerned with health personnel development and utilization; (12) in coordination with the Office of the Administrator, Health Resources and Services Administration, serves as a focus for technical assistance activities in the international aspects of health personnel development, including the conduct of special international projects relevant to domestic health personnel problems; (13) administers the National Practitioner Data Bank Program; (14) administers the Healthcare Integrity and Protection Data Bank Program; (15) administers the Ricky Ray Hemophilia Relief Fund Program; (16) administers the Children's Hospitals Graduate Medical Education (CHGME) Payment Program; (17) administers the National Health Service Corps Program which assures accessibility of health care in underserved areas; (18) plans the activities of the National Health Service Corps Advisory Council; (19) administers the Public Health Service Scholarship Training Program and the National Health Service Corps Scholarship Loan Repayment Program; (20) administers the designation of health professional shortage areas and medically-underserved populations; (21) administers the Community Scholarship Program; (22) administers the State Loan Repayment Program; (23) administers the Nursing Education Loan Repayment Program; and (24) administers the Federal Credentialing Program.

16. Move the Legislative function in the Office of Planning and Project Development in the Bureau of Health Professions and place it in the Office of the Administrator Office of Legislation. Rename the Office of Planning And Project Development (RPA) in the Bureau of Health Professions as the Office of Policy and Planning, then delete the functional statement in its entirety and replace as follows:

Office of Policy and Planning (RP)

Serves as the Bureau focal point for program planning and evaluation program/operations review, analysis and Information Management System. Maintains liaison with governmental, professional, voluntary, and other public and private organizations, institutions, and groups for the purpose of providing information exchange. Specifically: (1) Stimulates, guides, and coordinates program planning, reporting, and evaluation activities of the Divisions and staff offices; (2) provides staff services to the Associate Administrator for program and strategic planning and its relation to the budgetary and regulatory processes, the development of issue papers, congressional reports, and coordination of OMB information clearance requests for forms and regulations; (3) coordinates the development and implementation of the Bureau's evaluation program; (4) reviews and interprets program award policies and authorities for incorporation into the development and implementation of the Bureau's program and award procedures; (5) coordinates the development, clearance, and dissemination of regulations, Federal Register notices, application guidelines and operating procedures; (6) identifies issues and coordinates the resolution of program award policy and procedural questions that arise; (7) serves as the Bureau's focal point for correspondence control; (8) coordinates the development of the Bureau's annual procurement plans and schedule for Bureau grants, contracts, and cooperative agreements; (9) coordinates and provides guidance on the Freedom of Information Act and Privacy Act activities for the Bureau; (10) monitors obligatory service requirements and conditions of deferment for compliance; and (11) maintains liaison with the Office of the General Counsel and the Office of the Inspector General, DHHS.

17. In the Bureau of Health Professions, delete the Office of Program Support in its entirety and replace as follows:

Office of Program Support

Plans, directs, coordinates and evaluates Bureau-wide administrative management activities, including grants management and financial management activities. Maintains close liaison with officials of the Bureau, Agency, the Office of Public Health and Science, and the Office of the Secretary on management and support activities. Specifically: (1) Serves as the Associate Administrator's principal source for management and administrative advice and assistance; (2) provides advice, guidance, and coordinates personnel activities for the Bureau with the Office of Human Resources Development, HRSA; (3) directs and coordinates the allocation of personnel resources; (4) provides organization and management analysis, develops policies and procedures for internal operation, and interprets and implements the Bureau's management policies, procedures and systems; (5) develops and coordinates program and administrative delegations of authority activities; (6) responsible for planning and directing Bureau financial management activities, including budget formulation, presentation, and execution functions; (7) conducts all business management aspects of the review, negotiation, award and administration of Bureau grants management activities; (8) provides Bureau-wide support services such as supply management, equipment utilization, printing, property management, space management, records management and management reports; (9) manages the Bureau's performance management systems; and (10) develops general guidance and criteria related to the Bureau's grant programs.

18. In the Bureau of Health Professions, delete the Office of Extramural Program Review (RPG) in its entirety and replace as follows:

Office of Peer Review (RPG)

(1) Serves as the Bureau's focal point for the administration and management of the grants and cooperative agreement review process, and its peer review functions; (2) develops, implements and maintains policies and procedures necessary to carry out primary functions in keeping with all Agency requirements; (3) maintains close liaison between Divisions/Offices to obtain information regarding potential peer reviewer panelists; (4) provides technical assistance to Peer Reviewers ensuring that reviewers are aware of and comply with the appropriate administrative policies and regulations, e.g., conflict of interest, confidentiality, and Privacy Act; (5) provides technical advice and guidance to the Associate Administrator regarding the Bureau's peer review processes; (6) coordinates and assures the development of program policies and rules relating to the Bureau's extramural activities; and (7) administers the Bureau's peer review function; and provide Divisions with final disposition, e.g., approval/disapproval for all applications peer reviewed.

19. In the Bureau of Health Professions, delete the Division of Interdisciplinary and Community Based Programs (RPE) in its entirety and replace as follows:

Division of State, Community and Public Health (RPE)

Serves as the principal focal point for specialized DHHS interagency projects, HRSA initiatives and Bureau of Health Professions interdivisional activities. Specifically: (1) Promotes, designs, supports and administers activities relating to the planning and development of nationally integrated health professions education programs; (2) administers special projects, such as the Secretary's Primary Care Policy Fellowship Program and the Secretary's Award Program for Innovations in Health Promotion and Disease Prevention; (3) promotes, plans and develops collaborative, interdisciplinary activities in the speciality areas of behavioral/mental health, rural health, geriatrics and the associated health professions, veterinary medicine, optometry, and pharmacy; allied health professions, including physical therapy, occupational therapy, medical technology, dental hygiene, respiratory therapy, radiography, radiation therapy, emergency medical technicians, and a long list of similar professionals; chiropractic health care; social workers, especially in medical settings; clinical psychology; mental health workers; and new and developing health disciplines; (4) promotes quality improvement in health professions education through collaboration and partnerships with national and international institutes and centers for quality improvement; (5) promotes and supports academic-community partnerships whose goal is the development of interdisciplinary, community-based programs designed to improve access to health care through improving the quality of health professions education and training; (6) collaborates with relevant Divisions/Offices of the Bureau, HRSA and the Department; (7) maintains liaison with related professional groups, foundations, and other private and government organizations as needed; (8) serves as the Federal focus for the development and improvement of education for professional public health, preventive medicine, environmental health, and health administration practice, including undergraduate, graduate, and continuing professional development; (9) administers the Community Scholarship Program; and (10) administers the State Loan Repayment Program.

20. In the Bureau of Health Professions, delete the Division of Health Professions Diversity (RPD) in its entirety and replace as follows:

Division of Health Careers Development (RPD)

Serves as the focal point for the Health Professions and Nursing Student Loan and Scholarship Programs, the Exceptional Financial Need Scholarship Program, the Federal Assistance to Disadvantaged Health Professions Scholarship Program, the Health Educational Assistance Loan Program, the Health Professions and Nursing Educational Loan Repayment and Loan Cancellation Programs by providing leadership to assure equity in access to health resources and health careers for diverse and disadvantaged populations. Specifically: (1) Provides technical assistance to groups that represent and seek to improve the health status of diverse and disadvantaged populations, and facilitates the access of such groups to Bureau and other Federal programs and resources; (2) provides leadership and direction for the development and implementation of Bureau objectives as they relate to diverse and disadvantaged populations; (3) develops and recommends health resources and health career opportunities for diverse and disadvantaged populations; (4) initiates, stimulates, supports, coordinates, and evaluates Bureau programs for improving the availability and accessibility of health careers for diverse and disadvantaged populations; (5) initiates, stimulates, supports, coordinates, and evaluates in conjunction with other Bureau units, comprehensive data systems and analyses on requirements, resources, accessibility, and accountability of the health delivery system for diverse and disadvantaged populations; (6) conducts special studies and collects baseline data to identify specific factors contributing to the health and health-related problems of diverse and disadvantaged populations, and to develop strategies for improving health services and career opportunities for diverse and disadvantaged populations; (7) conducts extramural programs, including the use of grants and contracts, specifically designed to promote equity in access to health careers; (8) assures contract compliance and implementation of the Policy Statement on Civil Rights in the Bureau; (9) in coordination with the Bureau's divisions and in collaboration with other HRSA entities, provides leadership for and assures implementation of Presidential, Departmental, and other special initiatives addressing the needs of diverse and disadvantaged populations; (10) conducts and coordinates Bureau programs in health careers for women; (11) provides leadership to develop and coordinate Bureau program support to student health organizations; (12) provides advice and consultation on policy and other matters related to assuring equity in access to health resources and health careers for diverse and disadvantaged populations; (13) plans, develops, implements and promotes special initiatives and projects; (14) coordinates all necessary Federal, State and/or private sector involvement to insure the success of the initiative; (15) takes appropriate steps to institutionalize initiatives which successfully promote the mission of the Bureau; (16) directs and administers the Health Professions and Nursing Student Loan and Scholarship Programs, the Exceptional Financial Need Scholarship Program, the Federal Assistance to Disadvantaged Health Professions Scholarship Program, the Health Educational Assistance Loan Program, the Health Professions and Nursing Educational Loan Repayment and Loan Cancellation Programs including the awarding of loan and scholarship funds; (17) develops and implements program plans and policies and operating and evaluation plans and procedures in coordination with the Office of Policy and Planning; (18) monitors and assesses educational and financial institutions with respect to capabilities and management of Federal support for students; (19) develops and conducts training activities for staff of educational and financial institutions; (20) maintains liaison with and provides assistance to program-related public and private professional organizations and institutions; (21) maintains liaison with the Office of the General Counsel, and the Office of the Inspector General, DHHS, components of the Department of Education and the Department of Defense, and State agencies concerning student assistance; (22) coordinates financial aspects of programs with educational institutions; and (23) develops program data needs, formats, and reporting requirements, including collection, collation, analysis and dissemination of data.

21. In the Bureau of Health Professions, delete the Division of Quality Assurance (RP8) in its entirety and replace as follows:

Division of Practitioner Data Banks (RP8)

Serves as the focal point within DHHS/HRSA for medical, dental, nursing and other health professions quality assurance efforts. Specifically in coordination with the Department and other Federal entities, State licensing boards, and national, State and local professional organizations: (1) Administers the National Practitioner Data Bank (NPDB) as authorized under Title IV of the Health Care Quality Improvement Act of 1986 and Section 5 of the Medicare and Medicaid Patient and Program Protection Act of 1987; (2) prepares and submits periodic reports to the Congress on NPDB activities; (3) conducts and supports research based on NPDB information; (4) maintains active consultative relations with professional organizations, societies, and Federal agencies involved in the NPDB; (5) proposes and monitors guidelines for (a) credentials assessment, granting of privileges, and monitoring and evaluating programs for physicians, dentists, and other health care professionals; (b) professional review of specified medical events in the health care system; and (c) risk management and utilization reviews; (6) encourages evaluation and demonstration projects and research concerning quality assurance, medical liability and malpractice; (7) works with the Secretary's office to provide technical assistance to States undertaking malpractice reform; (8) provides staff to and coordinates the activities of the PHS Interagency Advisory Council on Quality Assurance and Risk Management; (9) undertakes other quality assurance and risk management development efforts; (10) administers the Healthcare Integrity and Protection Data Bank Program (HIPDB); and (11) administers the Federal Credentialing Program (FCP).

22. In the Bureau of Health Professions, delete the National Center for Workforce Information and Analysis (RP-2) in its entirety and replace as follows:

National Center for Health Workforce Analysis (RPL)

Serves as the Bureau focal point for health professions data analysis and research. Maintains liaison with governmental, professional, voluntary, and other public and private organizations, institutions, and groups for the purpose of providing information exchange. Specifically: (1) Provides Departmental, Agency and Bureau leadership for a National Health Workforce and Analysis Program; (2) sponsors and conducts research on important issues that affect the national, State and local health workforce; (3) provides technical assistance to States, educational institutions, professional associations and other Federal Agencies relative to health personnel analytical information and analysis; (4) develops and applies econometric, statistical, and other quantitative methods, and conducts and sponsors research to develop new models and techniques for assessing and forecasting the capacity and output of health professions educational institutions and the labor supply behavior of specific types of health personnel; (5) conducts special studies to update national supply and requirements projection models and to increase the accuracy and reliability of supply and requirements projections; (6) develops forecasting models of various sectors of the health care system, and develops integrated models to provide a system-wide forecasting capability; (7) develops and coordinates the Bureau data collection and modeling in conjunction with other entities involved in data collection and analysis, such as the Agency for Healthcare Research and Quality (AHRQ), the National Center for Health Statistics (NCHS), the Centers for Medicare and Medicaid Services (CMS), the Administration on Aging (AOA); (8) provides technical coordination for the preparation of coordinated Bureau reports to Congress and other major technical reports, (9) develops, maintains and updates detailed models for the supply and requirements of physicians by specialty; (10) supports and conducts programs which address the development, supply, utilization, and quality of nursing personnel; (11) maintains communication and liaison with government, private and academic researchers concerned with educational research as well as modeling of health personnel supply, demand, and employment; (12) conducts analytical studies relevant to current and future policies of the Bureau and their impact on the supply and demand for health professionals and the health industry at large; (13) provides regular assessment to Office Directors and Bureau Associate Administrator of new information that has relevance to policy changes; (14) prepares policy analysis reports suitable for publication in peer reviewed journals; (15) initiates and conducts special studies to aid in the development of health professions policy initiatives and future health policy directions; (16) provides national leadership in the development and analysis of data related to nursing personnel requirements, distribution and availability and the relationship of nursing requirements to requirements for other types of health personnel; (17) provides national leadership and management of the designation of health professional shortage areas and medically-underserved populations; (18) maintains and enhances the Agency's critical role in the Nation's efforts to address equitable distribution of health professionals and access to health care for underserved populations; (19) encourages and fosters an ongoing, positive working relationship with other Federal, State and private sector partners; (20) approves designation requests and finalizes designation policies and procedures for both current and proposed designation criteria; (21) negotiates and approves State designation agreements (e.g., use of databases, population estimates, Statewide Rational Service Areas,); and (22) develops and obtains health professions and other health data.

23. In the Bureau of Health Professions, delete the Division of Shortage Designation (RPJ) and place the functions in the National Center for Health Workforce Analysis (RPK)

24. In the Bureau of Health Professions, delete the functional statement for the Division of Medicine and Dentistry (RPC) in its entirety and replace as follows:

Division of Medicine and Dentistry (RPC)

Serves as the principal focus with regard to education, practice, and research of medical personnel; with special emphasis on allopathic and osteopathic physicians, podiatrists, dentists and physician assistants. Specifically: (1) Provides professional expertise in the direction and leadership required by the Bureau for planning, coordinating, evaluating, and supporting development and utilization of the Nation's health personnel for these professions; (2) supports and conducts programs with respect to the need for and the development, use, credentialing, and distribution of such personnel; (3) engages with other Bureau programs in cooperative efforts of research, development, and demonstration on the interrelationships between the members of the health care team, their tasks, education requirements, and training modalities, credentialing and practice; (4) conducts and supports studies and evaluations of physician, dentist, physician assistant, and podiatric personnel requirements, distribution and availability, and cooperates with other components of the Bureau and Agency in such studies; (5) analyzes and interprets physician, dental, physician assistant, and podiatric programmatic data collected from a variety of sources; (6) conducts, supports, or obtains analytical studies to determine the present and future supply and requirements of physicians, dentists, physician assistants, and podiatrists by specialty and geographic location, including the linkages between their training and practice characteristics; (7) conducts and supports studies to determine potential national goals for the training and distribution of physicians in graduate medical education programs and develops alternative strategies to accomplish these goals; (8) supports and conducts programs with respect to activities, associated with the international migration, domestic training, and utilization of foreign medical graduates and U.S. citizens studying abroad; (9) maintains liaison with relevant health professional groups and others, including consumers, having common interest in the Nation's capacity to deliver health services; (10) provides consultation and technical assistance to public and private organizations, agencies, and institutions, including Regional Offices, other agencies of the Federal Government, and international agencies and foreign governments, on all aspects of the Division's functions; (11) provides administrative and staff support for the Advisory Committee on Training and Primary Care Medicine and Dentistry, and for the Council on Graduate Medical Education; and (12) represents the Bureau, Agency and Federal Government, as designated, on nation committees and/or the Accreditation Council on Graduate Medical Education (ACGME) and the Accreditation Council for Continuing Medical Education (ACCME); (13) administers support programs for the development, improvement, and the operation of general, pediatric, and public health dental educational programs; (14) designs, administers and supports activities relating to dentists; (15) provides technical assistance and consultation to grantee institutions and other governmental and private organizations on the operation of these educational programs; (16) promotes the dissemination and application of findings arising from programs supported; and (17) develops congressional and other mandated or special program-specific reports and publications on dental educational processes, programs and approaches.

25. In the Bureau of Health Professions, delete the functional statement for the Division of Nursing (RP5) in its entirety and replace as follows:

Division of Nursing (RP5)

Serves as the principal focus for nursing education and practice. Specifically: (1) Provides national leadership and professional nursing expertise in the areas of policy development, budget, planning, coordination, evaluation and utilization of nursing personnel resources; (2) serves, on behalf of the Secretary, as the Chair of the National Advisory Council on Nurse Education and Practice; (3) supports and conducts programs which address the development, supply, utilization, and quality of nursing personnel; (4) promotes the involvement of States and communities in developing and administering nursing programs and assists States and communities in improving nursing services and educational programs; (5) encourages coordination of nursing-related issues within and across Departmental entities; (6) facilitates coordination of nursing-related issues with other governmental agencies and consults with them on national or international nursing workforce planning and development issues; (7) maintains liaison with external health professional groups, the academic community, consumers, and State and community groups with a common interest in the Nation's capacity to deliver nursing services; (8) advances and promotes the development of effective models of nursing practice and education; (9) stimulates initiatives in the area of international nursing information exchange and nursing workforce planning and development; (10) provides overall direction and management of Division's human and financial resources; and (11) administers the Nursing Education Loan Repayment Program.

26. In the Bureau of Health Professions, delete the functional statement for the Division of National Health Service Corps (RPH) in its entirety and replace as follows:

Division of National Health Service Corps (RPH)

(1) Provides strategic planning and overall policy guidance and program oversight to the National Health Service Corps (NHSC); (2) initiates national program and policy changes, including regulatory and statutory amendments, as necessary, to ensure NHSC consistency with evolving national health care policy; (3) supports the NHSC National Advisory Council (NAC), which advises the Secretary, DHHS, on national health care policy, particularly as it affects health-manpower issues and the NHSC; (4) works with the Office of the Administrator and the Office of the Secretary to ensure that the NAC members are nationally recognized leaders in national health care policy issues, and in their respective primary health care disciplines; (5) provides national NHSC leadership, integration and coordination with HRSA and other Departmental programs serving or impacting the Nation's underserved communities and populations; (6) works directly with Bureau, Agency, intra-Agency, Departmental, and inter-Departmental organizations and staffs, as appropriate, on national policies and strategies affecting underserved populations and the development and distribution of primary care clinical personnel; (7) speaks for NHSC with national, regional, State, and local public and private health care professional associations, universities and other health professions training institutions and other groups whose public policy interests relate to primary health care manpower and access issues; (8) articulates NHSC policy interests and issues to a variety of national forums, including universities, foundations, think tanks, and other organizations whose interests in primary and other health care public policy issues have potential for affecting the NHSC; (9) provides policy guidance and support to HRSA field offices on NHSC issues; (10) coordinates NHSC's policy on primary and other health care manpower issues, and works with a wide variety of national, regional, State and local constituencies in ensuring their effective implementation; (11) directs and administers the Public Health Service Scholarship Training Program, the NHSC Loan Repayment Program, and the National Health Service Corps (NHSC) Scholarship Program programs, including the recruitment, application, selection and awarding of scholarship funds and deferment and service monitoring systems in close coordination with the NHSC; (12) develops and implements program plans and policies and operating and evaluation plans and procedures; (13) provides guidance and technical assistance for field office and educational institutions on the NHSC scholarship program; (14) provides guidance and technical assistance for field office and educational institutions on the NHSC scholarship program (15) maintains liaison with, and provides assistance to, program-related public and private professional organizations and institutions; (16) coordinates financial aspects of programs with educational institutions; (17) develops program data needs, formats and reporting requirements including collection, collation, analysis and dissemination of data; and (18) participates in the development of forward plans and budgets, directs and administers these programs, including the recruitment, application, selection and awarding of scholarship funds and deferment and service monitoring systems in close coordination with the NHSC.

27. In the Bureau of Health Professions, abolish the Division of Scholarships and Loan Repayments (RPI) and place the function in the Division of National Health Service Corps (RPH).

28. In the Bureau of Health Professions, abolish the Division of Vaccine Injury Compensation and place it in the Office of Special Programs.

29. In the Bureau of Health Professions, abolish the Division of Student Assistance (RP6) and place the function in the Division of Health Careers Development (RPD).

30. In the Bureau of Health Professions, abolish the Center of Public Health (RP-4) and place the function in the Division of State, Community and Public Health (RPE).

31. In the Bureau of Health Professions, abolish the Center for Program Coordination (RP-1) and place the function in the Office of Policy and Planning (RPA).

32. In the Office of Special Programs (RR), delete the functional statement in its entirety and replace as follows:

Office of Special Programs (RR)

Provides overall leadership and direction for: Procurement, allocation, and transplantation of human organs and bone marrow; programmatic, financial and architectural/engineering support for construction/renovation programs; operation of the Vaccine Injury Compensation Program; and grants to States to improve health insurance coverage for the uninsured. Specifically: (1) Administers the Organ Procurement and Transplantation Network and the Scientific Registry of Transplant Recipients to assure compliance with Federal Regulations and policies; (2) administers the National Marrow Donor Program in matching volunteer unrelated marrow donors for transplants and studying the effectiveness of unrelated marrow transplants and related treatments; (3) develops, conducts and maintains a national program of grants and contracts to organ procurement organizations and other entities to increase the availability of various organs to transplant candidates; (4) manages national programs for compliance with uncompensated care and other assurances; (5) directs and administers Section 242 hospital mortgage insurance program (via inter-agency agreement with HUD) and HHS direct and guaranteed construction loan programs; (6) directs and administers grant program for construction/renovation/equipping of health care and other facilities; (7) directs and administers the National Vaccine Injury Compensation Program; and (8) directs and administers the State Planning Grant Program'.

30. In the Office of Special Programs, establish the Division of Vaccine Injury Compensation Program (RR4) as follows:

Division of Vaccine Injury Compensation (RR4)

The Division of Vaccine Injury Compensation (RP9) (DVIC), on behalf of the Secretary of Health and Human Services (HHS), administers all statutory authorities related to the operation of the National Vaccine Injury Compensation Program (VICP) by the (1) evaluation of petitions for compensation filed under the VICP through medical review and assessment of compensability for all complete claims; (2) processing of awards for compensation made under the VICP; (3) development of regulations to revise the Vaccine Injury Table; (4) provision of professional and administrative support to the Advisory Commission on Childhood Vaccines (ACCV); (5) development and maintenance of all automated information systems necessary for program implementation; (6) provision and dissemination of program information; (7) promotion of safer childhood vaccines; and (8) maintains a working relationship with other Federal and private sector partners in the administration and operation of the VICP.

Section RA-30 Delegation of Authority

All delegations of authority which were in effect immediately prior to the effective date hereof have been continued in effect in them or their successors pending further redelegation. I hereby ratify and affirm all actions taken by any DHHS official which involved the exercise of these authorities prior to the effective date of this delegation.

This reorganization is effective upon the date of signature.

Dated: October 4, 2001.
Elizabeth M. Duke,
Acting Administrator.

[FR Doc. 01-25841 Filed 10-12-01; 8:45 am]

BILLING CODE 4165-15-P